NUCLEAR REGULATORY COMMISSION

[Docket Nos. 50-003-LT and 50-247-LT; ASLBP No. 01-792-03-LT]

Consolidated Edison Company of New York, Inc. and Entergy Nuclear Indian Point 2, LLC, and Entergy Nuclear Operations, Inc.; Indian Point Nuclear Generating Units 1 and 2; Designation of Presiding Officer

Pursuant to delegation by the Commission, see 37 FR 28710 (Dec. 29, 1972), CLI-01-19, 54 NRC_ (Aug. 22, 2001), and the Commission's regulations, see 10 CFR 2.1319, notice is hereby given that a single member of the Atomic Safety and Licensing Board Panel is designated as Presiding Officer to conduct further proceedings in accordance with 10 CFR 2.1320 in the following case:

Consolidated Edison Company of New York, Inc., Entergy Nuclear Indian Point 2, LLC, and Entergy Nuclear Operations, INC.

(Indian Point Nuclear Generating Units 1 and 2)

The hearing will be conducted pursuant to 10 CFR part 2, subpart M, of the Commission's Regulations, “Public Notification, Availability of Documents and Records, Hearing Requests and Procedures for Hearings on License Transfer Applications.” This proceeding concerns an application seeking the Commission's authorization to transfer the ownership interest in, and operating/maintenance responsibility for Indian Point Nuclear Generating Units 1 and 2 from Consolidated Edison Company of New York, Inc., to Entergy Nuclear Indian Point 2, LLC, and Entergy Nuclear Operations, Inc., respectively. The notice of consideration of this transfer request and opportunity for hearing was published in the Federal Register. See 66 FR 8122 (Jan. 29, 2001).

The Presiding Officer in this proceeding is Administrative Judge Ann Marshall Young. All correspondence, documents, and other materials shall be filed with Judge Young in accordance with 10 CFR 2.1313. Her mail and e-mail addresses are: Administrative Judge Ann Marshall Young, Presiding Officer, Atomic Safety and Licensing Board Panel, U.S. Nuclear Regulatory Commission, Washington, DC 20555-0001, E-mail: amy@nrc.gov

Issued at Rockville, MD., this 28th day of August 2001.
G. Paul Bollwerk III,
Chief Administrative Judge, Atomic Safety and Licensing Board Panel.

[FR Doc. 01-22138 Filed 8-31-01; 8:45 am]

BILLING CODE 7590-01-P